DEPARTMENT OF DEFENSE

Defense Logistics Agency

Privacy Act of 1974; Systems of Records

AGENCY: Defense Logistics Agency.

ACTION: Notice to amend systems of records.

SUMMARY: The Defense Logistics Agency proposes to amend a system of records notice in its inventory of record systems subject to the Privacy Act of 1974 (5 U.S.C. 552a), as amended.

DATES: This action will be effective without further notice on March 3, 2004, unless comments are received that would result in a contrary determination.

ADDRESSES: Send comments to the Privacy Act Officer, Headquarters, Defense Logistics Agency, ATTN: DDS-B, 8725 John J. Kingman Road, Suite 2533, Fort Belvoir, VA 22060-6221.

FOR FURTHER INFORMATION CONTACT: Ms. Susan Salus at (703) 767-6183.

SUPPLEMENTARY INFORMATION: The Defense Logistics Agency notices for systems of records subject to the Privacy Act of 1974 (5 U.S.C. 552a), as amended, have been published in the Federal Register and are available from the address above.

The Defense Logistics Agency proposes to amend a system of records notice in its inventory of record systems subject to the Privacy Act of 1974 (5 U.S.C. 552a), as amended. The amendment is not within the purview of subsection (r) of the Privacy Act of 1974 (5 U.S.C. 552a), as amended, which requires the submission of a new or altered system report.

Dated: January 16, 2004.
Patricia L. Toppings,
Alternate OSD Federal Register Liaison Officer, Department of Defense.

S253.30 DLA-G

System name:

Royalties (February 22, 1993, 58 FR 10854).

Changes:

System identifier:

Replace “S253.30 DLA-G” with “S100.71.”

* * * * *

Authority for maintenance of the system:

Delete entry and replace with “10 U.S.C. 2304(g), Contracts: Competition requirements; 10 U.S.C. 2320, Rights in technical data; 10 U.S.C. 2511, Defense dual-use critical technology program; 15 U.S.C. 3710b, Rewards to scientific, engineering, and technical personnel of Federal agencies; and DoD Directive 5535.3, Licensing of Government-owned inventions by the Department of Defense; DoD 3200.12-R-4, Domestic Technology Transfer Program Regulation; and DFARS Part 227, Patents, Data, and Copyrights.”

* * * * *

Purpose(s):

Delete entry and replace with “Data is maintained to document the review and approval of patent royalties.”

* * * * *

Safeguards:

Delete entry and replace with “Access is limited to those individuals who require the records for the performance of their official duties. Paper records are maintained in buildings with controlled or monitored access. During non-duty hours, records are secured in locked or guarded buildings, locked offices, or guarded cabinets. The electronic records systems employ user identification and password or smart card technology protocols.”

* * * * *

Retention and disposal:

Delete entry and replace with “Records submitted to the Office of General Counsel, HQ are destroyed 26 years after file is closed. Records maintained by Offices of General Counsel of DLA's field activities are destroyed 7 years after closure.”

* * * * *

Record source categories:

Delete “Patent” in the first sentence.

* * * * *

S100.71

System name:

Royalties.

System location:

Office of the General Counsel, HQ DLA-DG, 8725 John J. Kingman Road, Stop 2533, Fort Belvoir, VA 22060-6221, and the offices of counsel of the DLA field activities. Official mailing addresses are published as an appendix to DLA's compilation of systems of records notices.

Categories of individuals covered by the system:

Individuals and firms to which patent royalties are paid by Defense Logistics Agency contractors.

Categories of records in the system:

Reports from DLA procurement centers of patent royalties submitted pursuant to Defense Acquisition Regulation (DAR) forwarded to Defense Logistics Agency Headquarters, Office of General Counsel for approval, and included in pricing of respective contracts.

Authority for maintenance of the system:

10 U.S.C. 2304(g), Contracts: Competition requirements; 10 U.S.C. 2320, Rights in technical data; 10 U.S.C. 2511, Defense dual-use critical technology program; 15 U.S.C. 3710b, Rewards to scientific, engineering, and technical personnel of Federal agencies; and DoD Directive 5535.3, Licensing of Government-owned inventions by the Department of Defense; DoD 3200.12-R-4, Domestic Technology Transfer Program Regulation; and DFARS Part 227, Patents, Data, and Copyrights.

Purpose(s):

Data is maintained to document the review and approval of patent royalties.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information may be referred to other government agencies or to non-government personnel (including contractors or prospective contractors) having an identified interest in the allowance of royalties on DLA contracts.

The Dod “Blanket Routine Uses” set forth at the beginning of DLA's compilation of systems of records notices apply to this system.

Policies and practices for storing, retrieving, accessing, retaining, and disposing of records in the system:

Storage:

Records are maintained in paper and computerized form.

Retrievability:

Filed by patent number. Names of inventors and patent owners are retrievable from these numbers.

Safeguards:

Access is limited to those individuals who require the records for the performance of their official duties. Paper records are maintained in buildings with controlled or monitored access. During non-duty hours, records are secured in locked or guarded buildings, locked offices, or guarded cabinets. The electronic records systems employ user identification and password or smart card technology protocols.

Retention and disposal:

Records submitted to the Office of General Counsel, HQ are destroyed 26 years after file is closed. Records maintained by Offices of General Counsel of DLA's field activities are destroyed 7 years after closure.

System manager(s) and address:

Office of the General Counsel, Defense Logistics Agency, 8725 John J. Kingman Road, Stop 2533, Fort Belvoir, VA 22060-6221.

Notification procedure:

Individuals seeking to determine whether information about themselves is contained in this system should address written inquiries to the Privacy Officer, Headquarters, Defense Logistics Agency, ATTN: DSS-B, 8725 John J. Kingman Road, Stop 6220, Fort Belvoir, VA 22060-6221.

Record access procedures:

Individuals seeking access to information about themselves contained in this system should address written inquiries to the Privacy Officer, Headquarters, Defense Logistics Agency, ATTN: DSS-B, 8725 John J. Kingman Road, Stop 6220, Fort Belvoir, VA 22060-6221.

Individuals should provide information that contains full name, current address and telephone numbers of requester. For personal visits, each individual shall provide acceptable identification, e.g., driver's license or identification card.

Contesting record procedures:

The DLA rules for accessing records, for contesting contents and appealing initial agency determinations are contained in 32 CFR part 323, or may be obtained from the Privacy Act Officer, Headquarters, Defense Logistics Agency, ATTN: DSS-B, 8725 John J. Kingman Road, Stop 6220, Fort Belvoir, VA 22060-6221.

Record source categories:

DLA Counsel's investigation of published and unpublished records and files both within and without the government, consultation with government and non-Government personnel, information from other Government agencies and information submitted by Government officials or other persons having a direct interest in the subject matter of the file.

Exemptions claimed for the system:

None.

[FR Doc. 04-2029 Filed 1-30-04; 8:45 am]

BILLING CODE 5001-06-M